FEDERAL ELECTION COMMISSION

Sunshine Act Meetings

AGENCY: Federal Election Commission.

Date and Time: Tuesday, February 25, 2003, at 10 a.m.

Place: 999 E Street, NW., Washington, DC.

Status: This meeting will be closed to the public.

Items To Be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

Date and Time: Wednesday, February 26, 2003, at 9:30 a.m.

Place: 999 E Street, NW., Washington, DC. (ninth floor).

Status: This hearing will be open to the public.

Matter before the commission: Leadership PACs.

Date and Time: Thursday, February 27, 2003, at 10 a.m.

Place: 999 E Street, NW., Washington, DC. (ninth floor).

Status: This meeting will be open to the public.

Items To Be Discussed:

Correction and Approval of Minutes.

Administrative Fines—Final Rules and Explanation and Justification.

Administrative Matters.

FOR FURTHER INFORMATION CONTACT: Mr. Ron Harris, Press Officer, Telephone: (202) 694-1220.

Mary W. Dove,
Secretary of the Commission.

[FR Doc. 03-4370 Filed 2-20-03; 11:59 am]

BILLING CODE 6715-01-M